DEPARTMENT OF THE INTERIOR

Fish and Wildlife Service

Endangered Species Recovery Permit Applications

AGENCY: Fish and Wildlife Service, Interior.

ACTION: Notice of receipt of permit applications.

SUMMARY: We invite the public to comment on the following applications to conduct certain activities with endangered species.

DATES: Comments on these permit applications must be received on or before July 13, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address.

SUPPLEMENTARY INFORMATION: The following applicants have applied for scientific research permits to conduct certain activities with endangered species pursuant to section 10(a)(1)(A) of the Endangered Species Act (16 U.S.C. 1531 et seq.). The U.S. Fish and Wildlife Service (we) solicits review and comment from local, State, and Federal agencies, and the public on the following permit requests.

Permit No. TE-122620

Applicant: Joseph B. Platt, Irvine, California

The applicant requests a permit to take (harass by survey) the southwestern willow flycatcher (Empidonax traillii extimus) in conjunction with surveys in Ventura, Los Angeles, Orange, San Diego, Riverside, and San Bernardino Counties, California, for the purpose of enhancing its survival.

Permit No. TE-074017

Applicant: Jackie Charbonneau, Livermore, California

The permitee requests an amendment to take (harass by survey, capture, and release) the California tiger salamander (Ambystoma californiense) in conjunction with surveys and demographic studies in Alameda County, California, for the purpose of enhancing its survival.

Permit No. TE-052744

Applicant: Shannon Hickey, Davis, California

The permitee requests an amendment to take (harass by survey, capture, and release) the California tiger salamander (Ambystoma californiense) in conjunction with surveys and demographic studies throughout the range of the species in California for the purpose of enhancing its survival.

Permit No. TE-122632

Applicant: Kimberly Ferree, Encinatas, California

The applicant requests a permit to take (harass by survey, and locate and monitor nests) the coastal California gnatcatcher (Polioptila californica californica), take (harass by survey, locate and monitor nests, capture, band, and release) the southwestern willow flycatcher (Empidonax trailii extimus), and take (locate and monitor nests, capture, band, and release) the least Bell's vireo (Vireo bellii pusillus) in conjunction with ecological research and surveys for the purpose of enhancing their survival throughout the range of each species in California.

Permit No. TE-123409

Applicant: Rachel Bomkamp, Plancentia, California

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-123412

Applicant: Zachary Parker, Fresno, California.

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in southern California for the purpose of enhancing their survival.

Permit No. TE-020548

Applicant: U.S. Geological Survey-BRD, Western Ecological Research Center, Vallejo, California

The permittee requests an amendment to take (capture, handle, collect biological samples, and radio-tag) the California clapper rail (Rallus longirostris obsoletus) in conjunction with ecological research throughout the species range in California for the purpose of enhancing its survival.

Permit No. TE-124994

Applicant: USDA Forest Service, San Bernardino National Forest, San Bernardino, California.

The applicant requests a permit to take (capture and release) the unarmored threespine stickleback (Gasterosteus aculeatus williamsoni) in conjunction with surveys and population monitoring in San Bernardino, Los Angeles, Riverside, and Orange Counties, California, for the purpose of enhancing its survival.

Permit No. TE-126141

Applicant: Craig A. Stockwell, Fargo, North Dakota.

The applicant requests a permit to take (capture, mark, and release) the Mohave tui chub (Siphateles bicolor mohavensis) in conjunction with ecological studies in San Bernardino, California, for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: June 1, 2006.
Michael Fris,
Acting Manager, California/Nevada Operations Office, U.S. Fish and Wildlife Service.

[FR Doc. E6-9183 Filed 6-12-06; 8:45 am]

BILLING CODE 4310-55-P